DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground Modified
Unincorporated Areas of Morrow County, Ohio
Docket No.: FEMA-B-7784
Ohio | Unincorporated Areas of Morrow County | Whetstone Creek | 1290 feet downstream of Cardington Road | +1050
|  |  | 1570 feet downstream of U.S. Route 42 | +1068
* National Geodetic Vertical Datum.
+ North American Vertical Datum.
# Depth in feet above ground.
ADDRESSES
Unincorporated Areas of Morrow County
Maps are available for inspection at 80 North Walnut Street, Suite C, Mt. Gilead, OH 43338.

Flooding source(s) | Location of referenced elevation | * Elevation in feet (NGVD) + Elevation in feet (NAVD) # Depth in feet above ground Modified | Communities affected
Bay County, Florida, and Incorporated Areas
Docket No.: FEMA-B-7773
Beefwood Branch | At the confluence with Bayou George | +24 | City of Panama City, Unincorporated Areas of Bay County.
| Approximately 19,900 feet upstream of the confluence with Bayou George | +62
Big Branch | At the confluence with Bayou George | +27 | City of Panama City, Unincorporated Areas of Bay County.
| Approximately 24,800 feet upstream of the confluence with Bayou George | +60
Dry Branch | Approximately 615 feet upstream of the confluence with Bayou George | +10 | Town of Cedar Grove, Unincorporated Areas of Bay County.
| Approximately 800 feet downstream of Highway 231 | +11
Hammock Branch | At the confluence with Bayou George | +23 | City of Panama City, Unincorporated Areas of Bay County.
| Approximately 25,000 feet upstream of the confluence with Bayou George | +50
Island Branch | At the confluence with Bayou George | +30 | City of Panama City, Unincorporated Areas of Bay County.
| Approximately 16,900 feet upstream of the confluence with Bayou George | +59
Unnamed Tributary 1 to Bayou George | Approximately 650 feet upstream of the confluence with Bayou George | +16 | City of Panama City, Unincorporated Areas of Bay County.
| Approximately 1,400 feet upstream of Nadine Road | +50
Unnamed Tributary 10 to Bayou George | At the confluence with Bayou George | +37 | City of Panama City, Unincorporated Areas of Bay County.
| Approximately 3,900 feet upstream of the confluence with Bayou George | +50
Unnamed Tributary 11 to Bayou George | At the confluence with Bayou George | +57 | Unincorporated Areas of Bay County.
| Approximately 8,600 feet upstream of the confluence with Bayou George | +64
Unnamed Tributary 2 to Bayou George | Approximately 420 feet upstream of the confluence with Bayou George | +25 | City of Panama City, Unincorporated Areas of Bay County.
| Approximately 2,170 feet upstream of John Pitts Road | +47
Unnamed Tributary 3 to Bayou George | Approximately 400 feet upstream of the confluence with Bayou George | +23 | City of Panama City, Unincorporated Areas of Bay County.
| Approximately 5,500 feet upstream of John Pitts Road | +56
Unnamed Tributary 4 to Bayou George | Approximately 315 feet upstream of the confluence with Bayou George | +31 | Town of Cedar Grove, City of Panama City, Unincorporated Areas of Bay County.
| Approximately 7,780 feet upstream of John Pitts Road | +56
Unnamed Tributary 5 to Bayou George | Approximately 560 feet upstream of the confluence with Bayou George | +25 | Town of Cedar Grove, Unincorporated Areas of Bay County.
| Approximately 1,200 feet upstream of Bayou George Drive | +43
Unnamed Tributary 6 to Bayou George | Approximately 125 feet upstream of the confluence with Bayou George | +38 | Unincorporated Areas of Bay County.
| Approximately 1,400 feet upstream of the confluence with Bayou George | +38
Unnamed Tributary 7 to Bayou George | At John Pitts Road | +19 | City of Panama City, Unincorporated Areas of Bay County.
| Approximately 7,500 feet upstream of Old Majette Tower Road | +54
Unnamed Tributary 8 to Bayou George | At the confluence with Bayou George | +23 | City of Panama City, Unincorporated Areas of Bay County.
| Approximately 6,700 feet upstream of the confluence with Bayou George | +46
Unnamed Tributary 9 to Bayou George | At the confluence with Bayou George | +24 | City of Panama City.
| Approximately 1,800 feet upstream of the confluence with Bayou George | +35
Water Branch | At the confluence with Bayou George | +47 | Unincorporated Areas of Bay County.
| Approximately 22,000 feet upstream of the confluence with Bayou George | +60
White Bucky Branch | Approximately 900 feet upstream of the confluence with Bayou George | +26 | City of Panama City, Unincorporated Areas of Bay County.
| Approximately 9,000 feet upstream of the confluence with Bayou George | +54
* National Geodetic Vertical Datum.
+ North American Vertical Datum.
# Depth in feet above ground.
ADDRESSES
City of Panama City
Maps are available for inspection at Panama City City Hall, Engineering Department, 9 Harrison Avenue, Panama City, FL.
Town of Cedar Grove
Maps are available for inspection at Cedar Grove Town Hall, 2728 East 14th Street, Cedar Grove, FL.
Unincorporated Areas of Bay County
Maps are available for inspection at Bay County Planning and Zoning Department, 707 Jenks Avenue, Suite B, Panama City, FL.
Habersham County, Georgia, and Incorporated Areas
Docket No.: FEMA-B-7771
Soquee River Tributary | Approximately 770 feet upstream of confluence with Soquee River | +1308 | City of Clarkesville.
| Approximately 380 feet downstream of State Highway 385/Alternate 17/U.S. Highway 441 Business/Grant Street | +1308
* National Geodetic Vertical Datum.
+ North American Vertical Datum.
# Depth in feet above ground.
ADDRESSES
City of Clarkesville
Maps are available for inspection at City Hall, 210 East Water Street, Clarkesville, GA 30523.
Butler County, Kansas, and Incorporated Areas
Docket No.: FEMA-B-7781
Walnut River | Approximately 850 feet downstream of SW 220th Street | *1181 | City of Douglas.
| Approximately 1000 feet upstream of SW 210th Street | *1190
Whitewater River | Approximately 1000 feet upstream of State Highway 254 | *1254 | City of Towanda.
| Approximately 1320 feet upstream of State Highway 254 | *1264
* National Geodetic Vertical Datum.
+ North American Vertical Datum.
# Depth in feet above ground.
ADDRESSES
City of Douglas
Maps are available for inspection at City Hall, 322 S. Forrest, Douglass, KS 67039.
City of Towanda
Maps are available for inspection at City Hall, 110 S. 3rd Street, Towanda, KS 67114.
Benton County, Missouri, and Incorporated Areas
Docket No.: FEMA-B-7759
Lake of the Ozarks (Osage River and tributaries) | At confluence with Big Buffalo Creek | +666 | City of Warsaw, Unincorporated Areas of Benton County.
| At confluence with Cole Camp Creek | +667
| At U.S. Highway 65 | +669
* National Geodetic Vertical Datum.
+ North American Vertical Datum.
# Depth in feet above ground.
ADDRESSES
City of Warsaw
Maps are available for inspection at City Office, 181 W. Harrison, Warsaw, MO 65355.
Unincorporated Areas of Benton County
Maps are available for inspection at County Office, 316 Van Buren, Warsaw, MO 65355.
Madison County, North Carolina and Incorporated Areas
Docket No.: FEMA-D-7826
Anderson Branch | At the confluence with French Broad River | +1,535 | Unincorporated Areas of Madison County.
| Approximately 1.5 miles upstream of the confluence with French Broad River | +1,954
Banjo Branch | At the confluence with Gabriel Creek | +2,198 | Unincorporated Areas of Madison County, Town of Mars Hill.
| Approximately 800 feet upstream of Forest Street (State Road 1356) | +2,401
Barrett Branch | At the confluence with Little Sandymush Creek | +2,199 | Unincorporated Areas of Madison County.
| Approximately 900 feet upstream of the confluence with Little Sandymush Creek | +2,224
Big Branch | At the confluence with Little Ivy Creek | +2,011 | Unincorporated Areas of Madison County.
| Approximately 230 feet upstream of I-26/U.S. 19 | +2,223
Big Branch Tributary 2 | At the confluence with Big Branch | +2,118 | Unincorporated Areas of Madison County, Town of Mars Hill.
| Approximately 140 feet upstream of Mountain View Road | +2,284
Big Laurel Creek | Approximately 400 feet upstream of the confluence with French Broad River | +1,393 | Unincorporated Areas of Madison County.
| Approximately 1.7 miles upstream of Watershed Road (State Road 1505) | +4,301
Big Pine Creek | Approximately 200 feet upstream of the confluence with French Broad River | +1,526 | Unincorporated Areas of Madison County.
| At the confluence of North Fork Big Pine Creek and South Fork Big Pine Creek | +2,481
Brush Creek | Approximately 300 feet upstream of the confluence with French Broad River | +1,514 | Unincorporated Areas of Madison County.
| Approximately 150 feet upstream of Upper Brush Creek Road (State Road 1143) | +2,075
Bull Creek | At the confluence with Ivy Creek | +1,817 | Unincorporated Areas of Madison County.
| At the confluence of East Fork Bull Creek and West Fork Bull Creek | +2,020
California Creek | At the confluence with Little Ivy Creek and Paint Creek | +2,099 | Unincorporated Areas of Madison County.
| Approximately 600 feet upstream of the confluence of Holcombe Branch | +2,665
Crooked Creek | At the confluence with Middle Fork California Creek | +2,226 | Unincorporated Areas of Madison County.
| Approximately 800 feet upstream of State Road 1526 | +2,500
Doggett Branch | At the confluence with Little Sandymush Creek | +2,291 | Unincorporated Areas of Madison County.
| Approximately 700 feet upstream of NC Route 63 | +2,392
East Fork Bull Creek | At the confluence with Bull Creek and West Fork Bull Creek | +2,020 | Unincorporated Areas of Madison County.
| Approximately 1,300 feet upstream of East Fork Road (State Road 1364) | +2,073
Fall Branch | At the confluence with Little Sandymush Creek | +2,248 | Unincorporated Areas of Madison County.
| Approximately 700 feet upstream of the confluence with Little Sandymush Creek | +2,281
Friezeland Creek | At the confluence with Spring Creek | +2,426 | Unincorporated Areas of Madison County.
| Approximately 1.2 miles upstream of the confluence with Spring Creek | +2,608
Frisby Branch | Approximately 250 feet upstream of the confluence with French Broad River | +1,646 | Town of Marshall.
| Approximately 1.2 miles upstream of the confluence with French Broad River | +1,973
Gabriel Creek | At the confluence with Ivy Creek | +1,899 | Unincorporated Areas of Madison County, Town of Mars Hill.
| Approximately 0.8 mile upstream of Bruce Road | +2,879
Gabriel Creek Tributary 2 | At the confluence with Gabriel Creek | +2,041 | Unincorporated Areas of Madison County, Town of Mars Hill.
| Approximately 300 feet upstream of Woodhaven Road | +2,192
Gilbert Branch | At the confluence with Little Sandymush Creek | +2,282 | Unincorporated Areas of Madison County.
| Approximately 1,200 feet upstream of the confluence with Little Sandymush Creek | +2,315
Holcombe Branch | At the confluence with California Creek | +2,633 | Unincorporated Areas of Madison County.
| Approximately 0.6 mile upstream of the confluence with California Creek | +2,804
Holland Creek | At the confluence with Ivy Gap Branch and Middle Fork California Creek | +2,395 | Unincorporated Areas of Madison County.
| Approximately 325 feet upstream of the confluence with Ivy Gap Branch and Middle Fork California Creek | +2,412
Ivy Creek | Approximately 400 feet upstream of the French Broad River | +1,681 | Unincorporated Areas of Madison County.
| Approximately 250 feet upstream of the confluence of Little Ivy Creek | +1,971
Ivy Gap Branch | At the confluence with Holland Creek and Middle Fork California Creek | +2,395 | Unincorporated Areas of Madison County.
| Approximately 270 feet upstream of the confluence with Holland Creek and Middle Fork California Creek | +2,405
Laurel Branch | At the confluence with Bull Creek | +1,844 | Unincorporated Areas of Madison County.
| Approximately 350 feet upstream of Bend of Ivy Road (State Road 1576) | +1,877
Little Ivy Creek | At the confluence with Ivy Creek | +1,970 | Unincorporated Areas of Madison County.
| At the confluence of Paint Fork and California Creek | +2,099
Little Laurel Creek | At the confluence with Shelton Laurel Creek | +1,688 | Unincorporated Areas of Madison County.
| Approximately 250 feet upstream of the confluence of Shelton Branch | +1,805
Little Sandymush Creek | At the confluence with Sandymush Creek | +2,038 | Unincorporated Areas of Madison County.
| Approximately 0.4 mile upstream of the confluence of Doggett Branch | +2,355
Meadow Fork of Spring Creek | At the confluence with Spring Creek | +1,855 | Unincorporated Areas of Madison County.
| Approximately 0.4 mile upstream of Keenerville Church Road | +3,189
Middle Fork California Creek | At the confluence with California Creek | +2,106 | Unincorporated Areas of Madison County.
| Approximately 50 feet downstream of the confluence of Ivy Gap Branch and Holland Creek | +2,394
Morrow Branch | At the confluence with Little Sandymush Creek | +2,127 | Unincorporated Areas of Madison County.
| Approximately 700 feet upstream of Austin Branch Road (State Road 1102) | +2,164
North Fork Big Pine Creek | At the confluence with South Fork Big Pine Creek and Big Pine Creek | +2,481 | Unincorporated Areas of Madison County.
| Approximately 900 feet upstream of North Fork Road (State Road 1159) | +2,519
Nowhere Branch | At the confluence with Bull Creek | +1,866 | Unincorporated Areas of Madison County.
| Approximately 700 feet upstream of the confluence of Bull Creek | +1,897
Paint Fork | At the confluence with California Creek and Little Ivy Creek | +2,099 | Unincorporated Areas of Madison County.
| Approximately 900 feet upstream of the confluence of Ray Branch | +2,403
Polly Branch | At the confluence with Middle Fork California Creek | +2,323 | Unincorporated Areas of Madison County.
| Approximately 700 feet upstream of the confluence with Middle Fork California Creek | +2,335
Ponder Creek | At the confluence with Middle Fork California Creek | +2,381 | Unincorporated Areas of Madison County.
| Approximately 900 feet upstream of the confluence with Middle Fork California Creek | +2,399
Puncheon Fork | At the confluence with Big Laurel Creek | +2,996 | Unincorporated Areas of Madison County.
| Approximately 1,300 feet upstream of Streets Gap Road (State Road 1502) | +4,052
Ray Branch | At the confluence with Paint Fork | +2,377 | Unincorporated Areas of Madison County.
| Approximately 1,200 feet upstream of the confluence with Paint Fork | +2,402
Sandymush Creek | Approximately 500 feet upstream of the confluence with French Broad River | +1,728 | Unincorporated Areas of Madison County.
| Approximately 100 feet upstream of the confluence with Little Sandymush Creek | +2,041
Shake Rag Branch | At the confluence with Middle Fork California Creek | +2,267 | Unincorporated Areas of Madison County.
| Approximately 600 feet upstream of the confluence with Middle Fork California Creek | +2,285
Shelton Branch | At the confluence with Little Laurel Creek | +1,804 | Unincorporated Areas of Madison County.
| Approximately 0.7 mile upstream of the confluence with Little Laurel Creek | +1,910
Shelton Laurel Creek | At the confluence with Big Laurel Creek | +1,629 | Unincorporated Areas of Madison County.
| At the confluence of Whiteoak Flats Branch | +2,339
South Fork Big Pine Creek | At the confluence with North Fork Big Pine Creek and Big Pine Creek | +2,481 | Unincorporated Areas of Madison County.
| Approximately 1,400 feet upstream of the confluence with North Fork Big Pine Creek and Big Pine Creek | +2,513
Spring Creek | Approximately 1,500 feet upstream of the confluence with French Broad River | +1,325 | Unincorporated Areas of Madison County, Town of Hot Springs.
| At the confluence of Bear Branch | +2,825
Sprinkle Creek | At the confluence with California Creek | +2,353 | Unincorporated Areas of Madison County.
| Approximately 1.0 mile upstream of Sprinkle Creek Road (State Road 1349) | +3,347
Terry Fork | At the confluence with Paint Fork | +2,195 | Unincorporated Areas of Madison County.
| Approximately 2,000 feet upstream of Paint Fork | +2,220
Tilden Metcalf Creek | At the confluence with Paint Fork | +2,261 | Unincorporated Areas of Madison County.
| Approximately 100 feet upstream of Metcalf Creek Loop Road (State Road 1531) | +2,510
West Fork Bull Creek | At the confluence with Bull Creek and East Bull Creek | +2,020 | Unincorporated Areas of Madison County.
| Approximately 350 feet downstream of the confluence of Cargle Branch | +2,194
Whiteoak Creek | At the confluence with Ivy Creek | +1,852 | Unincorporated Areas of Madison County.
| Approximately 0.6 mile upstream of Thomas Road (State Road 1567) | +2,182
Whiteoak Creek Tributary 2 | At the confluence with Whiteoak Creek | +2,026 | Unincorporated Areas of Madison County.
| Approximately 1,100 feet upstream of the confluence with Whiteoak Creek | +2,043
Whiteoak Creek Tributary 4 | At the confluence with Whiteoak Creek | +2,096 | Unincorporated Areas of Madison County.
| Approximately 1,300 feet upstream of the confluence with Whiteoak Creek | +2,120
Wille Metcalf Creek | At the confluence with Paint Fork | +2,243 | Unincorporated Areas of Madison County.
| Approximately 1,100 feet upstream of Metcalf Creek Loop (State Road 1531) | +2,366
# Depth in feet above ground.
+ North American Vertical Datum.
* National Geodetic Vertical Datum.
ADDRESSES
Town of Hot Springs
Maps are available for inspection at Hot Springs Town Hall, 168 Bridge Street, Hot Springs, North Carolina.
Town of Mars Hill
Maps are available for inspection at Mars Hill Town Hall, 28 North Main Street, Mars Hill, North Carolina.
Town of Marshall
Maps are available for inspection at Marshall Town Hall, 45 North Main Street, Marshall, North Carolina.
Unincorporated Areas of Madison County
Maps are available for inspection at Madison County Planning and Zoning Office, 5707 U.S. Highway 25/70, Marshall, North Carolina.
Yancey County, North Carolina and Incorporated Areas
Docket No.: FEMA-B-7769
Bailey Branch | At the confluence with Pine Swamp Branch | +2,575 | Unincorporated Areas of Yancey County.
| Approximately 1,740 feet upstream of the confluence with Pine Swamp Branch | +2,637
Bald Mountain Creek | At the confluence with Cane River | +2,294 | Unincorporated Areas of Yancey County.
| Approximately 1,810 feet upstream of Bee Log Road (State Road 1408) | +2,467
Big Crabtree Creek | The confluence with North Toe River | +2,411 | Unincorporated Areas of Yancey County.
| Approximately 1.4 miles upstream of Seven Mile Ridge Road (State Road 1167) | +3,147
Brown Creek | Approximately 300 feet upstream of the confluence with South Toe River | +2,634 | Unincorporated Areas of Yancey County.
| Approximately 1.2 miles upstream of Upper Browns Creek Road (State Road 1154) | +4,690
Cane River | At the confluence with Nolichucky River and North Toe River | +2,044 | Unincorporated Areas of Yancey County.
| Approximately 60 feet downstream of the confluence of Mitchell Creek | +3,157
Cattail Creek | At Mountain Farm Road | +3,012 | Unincorporated Areas of Yancey County.
| At the confluence of North Fork Cattail Creek and South Fork Cattail Creek | +3,157
Jacks Creek | At the confluence with North Toe River | +2,136 | Unincorporated Areas of Yancey County.
| Approximately 60 feet upstream of Sheriff Anglin Road (State Road 1364) | +2,532
Little Crabtree Creek | Approximately 450 feet downstream of Depot Street (State Road 1140) | +2,623 | Unincorporated Areas of Yancey County, Town of Burnsville.
| Approximately 650 feet upstream of East Boulevard | +2,740
McIntosh Branch | At the confluence with Pine Swamp Branch | +2,699 | Unincorporated Areas of Yancey County, Town of Burnsville.
| Approximately 50 feet upstream of Van Kirk Lane | +2,751
Mitchell Branch | At the confluence with Little Crabtree Creek | +2,705 | Unincorporated Areas of Yancey County, Town of Burnsville.
| Approximately 260 feet upstream of Mitchell Branch (State Road 1373) | +2,751
Nolichucky River | Approximately 550 feet downstream of the railroad | +1,981 | Unincorporated Areas of Yancey County.
| At the confluence of Cane River and North Toe River | +2,044
North Cox Creek | Approximately 220 feet upstream of the confluence with Cane River | +2,149 | Unincorporated Areas of Yancey County.
| Approximately 1.5 miles upstream of the confluence with Cane River | +3,061
North Fork Cattail Creek | At the confluence with Cattail Creek and South Fork Cattail Creek | +3,157 | Unincorporated Areas of Yancey County.
| Approximately 1.1 miles upstream of North Fork Road | +4,869
North Toe River | At the confluence with Nolichucky River and Cane River | +2,044 | Unincorporated Areas of Yancey County.
| At the Yancey/Mitchell County boundary | +2,411
Pine Swamp Branch | At the confluence with Cane River | +2,553 | Unincorporated Areas of Yancey County, Town of Burnsville.
| Approximately 1,770 feet upstream of Cherry Lane (State Road 1139) | +2,720
Pine Swamp Branch | Approximately 1,770 feet upstream of Cherry Lane (State Road 1139) | #1 | Town of Burnsville.
| Approximately 200 feet upstream of East Main Street | #1
South Cox Creek | At the confluence with Jacks Creek | +2,420 | Unincorporated Areas of Yancey County.
| Approximately 700 feet upstream of Coxes Creek Road (State Road 1354) | +2,791
South Fork Cattail Creek | At the confluence with Cattail Creek and North Fork Cattail Creek | +3,157 | Unincorporated Areas of Yancey County.
| Approximately 0.5 mile upstream of Tennis Court Road | +3,739
South Toe River | At the confluence with North Toe River | +2,356 | Unincorporated Areas of Yancey County.
| Approximately 1,100 feet downstream of the confluence of Brown Creek | +2,629
# Depth in feet above ground.
+ North American Vertical Datum.
* National Geodetic Vertical Datum.
ADDRESSES
Town of Burnsville
Maps are available for inspection at Town of Burnsville Courthouse, Mapping Department, 110 Town Square, Burnsville, North Carolina.
Unincorporated Areas of Yancey County
Maps are available for inspection at Yancey County Courthouse, Room 11, Burnsville, North Carolina.
Beadle County, South Dakota, and Incorporated Areas
Docket No.: FEMA-B-7769
James River | Just upstream of the Sanborn County and Beadle County line | +1237 | Unincorporated Areas of Beadle County, City of Huron.
| Just downstream of the Spink County and Beadle County line | +1253
* National Geodetic Vertical Datum.
+ North American Vertical Datum.
# Depth in feet above ground.
ADDRESSES
City of Huron
Maps are available for inspection at 329 Wisconsin, PO Box 1369, Huron, SD 57350.
Unincorporated Areas of Beadle County
Maps are available for inspection at 400 3rd S.W., PO Box 25, Huron, SD 57350.
Collin County, Texas, and Incorporated Areas
Docket No.: FEMA-B-7713
Cottonwood Creek 1 | Approximately 200 feet downstream from Oxbow Creek Lane | *550 | City of Allen, City of Mckinney, City of Parker, City of Plano, City of Celina.
| Approximately 600 feet upstream from Ash Lane | *712
Doe Branch | Approximately 2,070 feet downstream from County Rd 51 | *624 | Unincorporated Areas of Jefferson County.
| County Road 94 | *741
East Fork Trinity River | Approximately 3,500 feet downstream from Union Pacific Railroad | *524 | City of Mckinney, City of Melissa.
| Approximately 1,600 feet upstream from County Road 279 | *570
Muddy Creek (Upper Reach) | Approximately one mile downstream from FM 544 | *487 | Unincorporated Areas of Jefferson County, City of Wylie.
| Just upstream from Stinson Road | *569
Rowlett Creek | McDermott Drive (FM 2170) | *606 | Unincorporated Areas of Collin County, City of Allen.
| Approximately 3,000 feet upstream from Exchange Parkway | *627
Stewart Creek Tributary | Approximately 2,500 feet downstream from Fossil Ridge Drive | *660 | City of Frisco.
| Approximately 2,800 feet upstream from Woodstream Drive | *718
Watters Branch | Approximately 2,250 feet downstream from Bethany Drive | *585 | City of Allen.
| State Hwy 121 | *691
West Rowlett Creek | Confluence with Rowlett Creek | *609 | City of Allen, City of Plano.
| Approximately 1,000 feet downstream from State Hwy 121 | *633
* National Geodetic Vertical Datum.
+ North American Vertical Datum.
# Depth in feet above ground.
ADDRESSES
City of Allen
Maps are available for inspection at One Butler Circle, Allen, TX 75013.
City of Celina
Maps are available for inspection at City of Celina, 320 West Walnut, Celina, TX 75009.
City of Frisco
Maps are available for inspection at City of Frisco, 6891 Main Street, Frisco, TX 75034.
City of Lucas
Maps are available for inspection at 151 Country Club Road, Lucas, TX 75002.
City of McKinney
Maps are available for inspection at City of McKinney, 222 North Tennessee Street, McKinney, TX 75070.
City of Melissa
Maps are available for inspection at City of Melissa, 109 U.S. Hwy 121, Melissa, TX 75454.
City of Parker
Maps are available for inspection at City of Parker, 5700 East Parker Road, Parker, TX 75002.
City of Plano
Maps are available for inspection at City of Plano, 1520 Avenue K, Plano, TX 75086.
City of Wylie
Maps are available for inspection at City of Wylie, 114 North Ballard Avenue, Wylie, TX 75098.
Collin County (Unincorporated Areas)
Maps are available for inspection at Collin County Department of Public Works, 210 South McDonald Street, McKinney, TX 75069.
Jefferson County, Wisconsin, and Incorporated Areas
Docket No.: FEMA-B-7724
Koshkonong Creek | Just upstream of Rockdale Road | +795 | Unincorporated Areas of Jefferson County.
| Approximately 1,200 feet upstream of Bridge Street | +843
Maunesha River | Approximately 1,500 feet downstream of Highway 19 | +830 | City of Waterloo.
| Approximately 1,000 feet downstream of Highway 19 | +830
Unnamed Stream | Approximately 1,500 feet downstream of County Highway C | +804 | Unincorporated Areas of Jefferson County.
| Just downstream of County Highway C | +804
* National Geodetic Vertical Datum.
+ North American Vertical Datum.
# Depth in feet above ground.
ADDRESSES
City of Waterloo
Maps are available for inspection at City Hall, 136 North Monroe Street, Waterloo, WI 53594.
Jefferson County (Unincorporated Areas)
Maps are available for inspection at Jefferson County Courthouse, 320 South Main Street, Room 201, Jefferson, WI 53549.

(Catalog of Federal Domestic Assistance No. 97.022, “Flood Insurance.”)

Dated: December 18, 2008.
Michael K. Buckley,
Acting Assistant Administrator, Mitigation Directorate, Department of Homeland Security, Federal Emergency Management Agency.

[FR Doc. E8-31274 Filed 1-5-09; 8:45 am]

BILLING CODE 9110-12-P